PEACE CORPS

New System of Records

ACTION: Notice to add a new system of records.

SUMMARY: Pursuant to the provisions of the Privacy Act of 1974 (5 U.S.C. 552a) the Peace Corps is giving notice of a new system of records, PC-22, titled Financial Management System.

DATES: This action will be effective without further notice on June 18, 2007 unless comments are received by June 4, 2007 that would result in a contrary determination.

ADDRESSES: You may submit comments by e-mail to sglasow@peacecorps.gov. You may also submit comments by mail to Suzanne Glasow, Office of the General Counsel, Peace Corps, Suite 8200, 1111 20th Street, NW., Washington, DC 20526. Contact Suzanne Glasow for copies of comments.

FOR FURTHER INFORMATION CONTACT: Suzanne Glasow, Associate General Counsel, 202-692-2150, sglasow@peacecorps.gov.

SUPPLEMENTARY INFORMATION: Section 552a provides that the public be given a 30-day period in which to comment on the new system. The Office of Management and Budget (OMB), which has oversight responsibility under the Act, requires a 40-day period in which to review the proposed system. In accordance with 5 U.S.C. 552a, Peace Corps has provided a report on this system to OMB and the Congress.

System name: PC-22, Financial Management System (FMS).

System location:

The financial system is located at the Peace Corps Headquarters. Authorized staff in Peace Corps offices, including those overseas, can access the automated system or its components. The Peace Corps office locations include Headquarters; Regional Recruitment offices; and Peace Corps overseas Posts. The number of Peace Corps recruiting offices is 11. The number of overseas offices (posts) fluctuates, from about 67 to about 71.

Categories of individuals covered by the system:

Individuals the Peace Corps owes money to or who receives a payment from the Peace Corps and those who owe money to the United States. These individuals consist of current and former Employees; Peace Corps Volunteers, Crisis Corps Volunteers; United Nations Volunteers; and returned Volunteers; Personal Services (PSC) and Other Contractors, Consultants, and Vendors who travel or perform certain services for PC; Donors; and Individuals whom Peace Corps Volunteers and Crisis Corps Volunteers have designated to receive their W-2 forms.

Categories of records in the system:

When applicable, information in the system includes, but is not limited to: Name, address, country of assignment, employee number, vendor number, social security number; Taxpayer Identification Number (TIN), including background and supporting documentation for most categories of individuals; banking data, PSC vendor Data Universal Numbering System (DUNS) number; contract numbers and contracts, invoice and payment records; travel payment records; Peace Corps, Crisis Corps, and United Nations Volunteer ID number, telephone numbers; date of birth, contacts, account numbers and payment records; claims, donors (Federal and non-federal), donor numbers and donation history.

Authority for maintenance of the system (includes any revisions or amendments):

Budget and Accounting Procedures Act of 1950; Federal Managers Financial Integrity Act; and the Office of Management and Budget (OMB) Circular A-127, The Peace Corps Act, 22 U.S.C. 2501, et seq., Debt Collection Improvement Act of 1996.

Purpose:

To support the financial functions required to track financial events, provide financial information significant to the financial management of Peace Corps and/or required for the preparation of financial statements and other federally-mandated reports and for the issuance of payments.

Routine uses of records maintained in the system:

Peace Corps general routine uses A, B, C, D, E, F, G, H, I, J, K and L apply to this system. Records may also be disclosed to:

1. The Department of Treasury for disbursements to vendors and travelers; or

2. The Department of State for disbursements to vendors and travelers.

3. The Department of Treasury for debt collection and to conduct a computer matching program in order to collect debts.

4. The Internal Revenue Service for tax reporting and submission of W-2 and 1099 information.

5. General Services Administration for Federal Procurement Data System (FPDS) reporting on contracts awarded.

6. Other Federal agencies with whom PC has established Interagency/Reimbursable Agreements.

Policies and practices for storing, retrieving, accessing, retaining, and disposing of records in the system:

Storage:

In a computerized database with background documentation or reports available on paper.

Retrievability:

By name, Volunteer ID number, SSN, contract or purchase order number, invoice number, payment batch number, customer number or vendor number, DUNS number. Paper records are retrieved according to Volunteer name, country location code, purchase order number, contract number, project number, vendor name, and SF1166 Schedule of Payments number.

Safeguards:

Computerized records are maintained in a secure, password-protected computer system. These records are available to Peace Corps employees and contractors with assigned duties requiring work with the records on a day-to-day basis. The office supervisors authorize the appropriate level of FMS record access for each user. FMS databases are backed up nightly. The domestic back-up media is stored in a data center until delivered to GSA/DOD-approved facilities for offsite storage. Back-up media in overseas PC offices is stored on site in fire-proof containers. Paper records are maintained in lockable file cabinets. The paper records and computer media are maintained in secure, access-controlled areas or buildings.

Retention and disposal:

Computerized records are stored within the FMS database and are being retained for a minimum of 8 years. The paper records of vouchers, contracts (with award amounts greater than $25,000), procurement files, and schedules of payments are retained for up to 6 years and 3 months after the fiscal year of the award or after the final payment has been issued; Volunteers/Trainees records are retained up to 7 years and 3 months after the Volunteer/Trainee has terminated or closed service; and records of donors are held for up to 7 years unless they are no longer needed.

System Manager:

Chief Financial Officer, Office of the Chief Financial Officer, U.S. Peace Corps, 1111 20th St., NW., Washington, DC 20526-0001.

Procedures for notification, access, and contesting:

Any individual who wants to know whether this system of records contains a record about himself or herself, who wants access to his or her record, or who wants to contest the contents of a record, should make a written request to the System Manager or Privacy Act Officer. Requesters will be required to provide adequate identification, such as a driver's license, employee identification card, or other identifying document. Additional identification procedures may be required in some instances. Requests for correction or amendment must identify the record to be changed and the corrective action sought. Complete Peace Corps Privacy Act procedures are set out in 22 CFR part 308.

Record Source Categories:

Record subject and Peace Corps staff.

Exemptions Claimed For The System:

None.

Dated: May 1, 2007.
Wilbert Bryant,
Associate Director—Management.

[FR Doc. 07-2211 Filed 5-3-07; 8:45 am]

BILLING CODE 6015-01-P